DEPARTMENT OF TRANSPORTATION

Office of the Secretary

Aviation Proceedings, Agreements Filed the Week Ending February 15, 2008

The following Agreements were filed with the Department of Transportation under the Sections 412 and 414 of the Federal Aviation Act, as amended (49 U.S.C. 1382 and 1384) and procedures governing proceedings to enforce these provisions. Answers may be filed within 21 days after the filing of the application.

Docket Number: DOT-OST-2008-0061.

Date Filed: February 13, 2008.

Parties: Members of the Interantional Air Transport Association.

Subject:

Result of Mail Vote (GVA/CAC/005/007), dated 31 October 2007.

Amendments to Resolution 823 and Resolution 809.

Intended effective date: 01 January 2008.

Renee V. Wright,
Program Manager, Docket Operations, Federal Register Liaison.

[FR Doc. E8-12891 Filed 6-6-08; 8:45 am]

BILLING CODE 4910-9X-P